DEPARTMENT OF DEFENSE

Department of the Army, Corps of Engineers

33 CFR Part 334

Restricted Area in Cape Fear River and Tributaries at Sunny Point Army Terminal, Brunswick County, NC

AGENCY: U.S. Army Corps of Engineers, DoD.

ACTION: Proposed rule.

SUMMARY: The U.S. Army requested that the U.S. Army Corps of Engineers (Corps) revise the regulation for the restricted area in the Cape Fear River and its tributaries at Sunny Point Army Terminal, Brunswick County, North Carolina, by renaming the marker buoys and specifying the latitude and longitude for those buoys. There are no other changes proposed for this restricted area regulation. The purpose of the proposed rule is to correct the buoys designating the boundary of the restricted area which provide security for the facility, and prevent acts of terrorism, sabotage, or other criminal acts against the facility, including vessels loading and offloading at the Sunny Point Army Terminal. In the “Rules and Regulations” section of the Federal Register, we are publishing this change to the restricted area regulation as a direct final rule without prior proposal because we view this as a non-controversial adjustment to our restricted area regulations and anticipate no adverse comment. We have explained our reasons for this approval in the preamble to the direct final rule. If we receive no adverse comment, we will not take further action on this rule and it will go into effect. If we receive adverse comment, we will withdraw the direct final rule and it will not take effect. We will address all public comments in a subsequent final rule based on this proposed rule. We will not institute a second comment period on this action. Any parties interested in commenting must do so at this time.

DATES: Written comments must be received by September 30, 2010.

SUPPLEMENTARY INFORMATION: This document concerns the “Restricted Area in Cape Fear River and tributaries at Sunny Point Army Terminal, Brunswick County, NC” rule. For further information, including instructions on how to submit comments, please see the information provided in the direct final rule that is located in the “Rules and Regulations” section of this Federal Register publication.

Dated: August 13, 2010.
Michael G. Ensch,
Chief, Operations, Directorate of Civil Works.

[FR Doc. 2010-21746 Filed 8-30-10; 8:45 am]

BILLING CODE 3720-58-P